DEPARTMENT OF TRANSPORTATION

Federal Aviation Administration

14 CFR Part 39

[Docket No. FAA-2018-0422; Product Identifier 2018-CE-015-AD]

RIN 2120-AA64

Airworthiness Directives; Pacific Aerospace Limited Airplanes

AGENCY: Federal Aviation Administration (FAA), DOT.

ACTION: Proposed rule; withdrawal.

SUMMARY: The FAA is withdrawing a notice of proposed rulemaking (NPRM) that proposed to supersede airworthiness directive (AD) AD 2015-23-03 for Pacific Aerospace Limited Model 750XL airplanes. The NPRM was prompted by mandatory continuing airworthiness information (MCAI) issued by an aviation authority of another country to identify and correct an unsafe condition on an aviation product. The MCAI describes the unsafe condition as fatigue cracks on the fin forward pickup plates. Since issuance of the NPRM, the FAA has determined that the actions required by AD 2015-23-03 address the unsafe condition. Accordingly, the NPRM is withdrawn.

DATES: As of June 28, 2021, the proposed rule, which published in the Federal Register on June 18, 2018 (83 FR 28171), is withdrawn.

ADDRESSES:

Examining the AD Docket

You may examine the AD docket at https://www.regulations.gov by searching for and locating Docket No. FAA-2018-0422; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Mike Kiesov, Aviation Safety Engineer, FAA, General Aviation & Rotorcraft Section, International Validation Branch, 901 Locust, Room 301, Kansas City, MO 64106; phone: (816) 329-4144; fax: (816) 329-4090; email: mike.kiesov@faa.gov.

SUPPLEMENTARY INFORMATION:

Background

The FAA issued an NPRM that proposed to amend 14 CFR part 39 by adding an AD that would apply to certain Pacific Aerospace Limited Model 750XL airplanes. The NPRM was published in the Federal Register on June 18, 2018 (83 FR 28171), and proposed to supersede AD 2015-23-03, Amendment 39-18319 (80 FR 69569, November 10, 2015) (AD 2015-23-03). AD 2015-23-03 requires reducing the torque setting for the fin forward pickup bolt, inspecting the fin forward pickup plates for cracks, and replacing the fin forward pickup plates. The NPRM was based on MCAI originated by the Civil Aviation Authority (CAA) of New Zealand. The MCAI states:

This [CAA] AD revised to introduce Pacific Aerospace Limited Mandatory Service Bulletin (MSB) PACSB/XL/068 issue 6, dated 8 January 2018. The changes to the SB are limited to minor editorial changes, and the addition of alternate P/N [part number] hi-lok fasteners due to limited availability of the original P/N. There are no changes to the AD applicability or the requirements.

Actions Since the NPRM Was Issued

After issuance of the NPRM, the FAA has determined that the actions required by AD 2015-23-03 address the unsafe condition. The new service information is unchanged except for editorial changes and the addition of alternate hi-lok fasteners. AD 2015-23-03 only requires the procedures in the service information that was incorporated by reference and not the materials. Thus, operators may use the new hi-lok fasteners to comply with AD 2015-23-03 without an alternative method of compliance. Based on the above information, the FAA has determined that AD action is not warranted and the proposal should be withdrawn.

Withdrawal of the NPRM constitutes only such action and does not preclude the FAA from further rulemaking on this issue, nor does it commit the FAA to any course of action in the future.

Regulatory Findings

Since this action only withdraws an NPRM, it is neither a proposed AD nor a final rule. This action, therefore, is not covered under Executive Order 12866 or the Regulatory Flexibility Act.

List of Subjects in 14 CFR Part 39

Air transportation, Aircraft, Aviation safety, Incorporation by reference, Safety.

The Withdrawal

Accordingly, the notice of proposed rulemaking, which published in the Federal Register on June 18, 2018 (83 FR 28171), is withdrawn.

Issued on June 18, 2021.
Lance T. Gant,
Director, Compliance & Airworthiness Division, Aircraft Certification Service.

[FR Doc. 2021-13482 Filed 6-25-21; 8:45 am]

BILLING CODE 4910-13-P